INTERNATIONAL TRADE COMMISSION

[USITC SE-03-040]

Sunshine Act Meeting

AGENCY: International Trade Commission.

Time and Date: December 10, 2003 at 2 p.m.

Place: Room 101, 500 E Street SW., Washington, DC 20436, Telephone: (202) 205-2000.

Status: Open to the public.

Matters To Be Considered: 1. Agenda for future meetings: none.

2. Minutes.

3. Ratification List.

4. Inv. No. 731-TA-1057 (Preliminary)(Certain Processed Hazelnuts from Turkey)—briefing and vote. (The Commission is currently scheduled to transmit its determination to the Secretary of Commerce on or before December 11, 2003; Commissioners' opinions are currently scheduled to be transmitted to the Secretary of Commerce on or before December 18, 2003.)

5. Outstanding action jackets: none.

In accordance with Commission policy, subject matter listed above, not disposed of at the scheduled meeting, may be carried over to the agenda of the following meeting.

Issued: December 3, 2003.
By order of the Commission:
Marilyn R. Abbott,
Secretary to the Commission.

[FR Doc. 03-30350 Filed 12-3-03; 11:24 am]

BILLING CODE 7020-02-P